DEPARTMENT OF LABOR

Employment and Training Administration

[NAFTA-3711]

Cadillac Curtain Corp., Dyer, Tennessee; Notice of Termination of Investigation

Pursuant to Section 221 of the Trade Act of 1974, an investigation was initiated on February 7, 2000, in response to a worker petition which was filed by a company official on behalf its workers at Cadillac Curtain Corp., Dyer, Tennessee.

The petitioner has requested that the petition be withdrawn. Consequently further investigation in this case would serve no purpose, and the investigation has been terminated.

Signed in Washington, DC this 20th day of March, 2000.
Grant D. Beale,
Program Manager, Division of Trade Adjustment Assistance.

[FR Doc. 00-7984 Filed 3-30-00; 8:45 am]

BILLING CODE 4510-30-M